ENVIRONMENTAL PROTECTION AGENCY

[FRL OP-OFA-049]

Environmental Impact Statements; Notice of Availability

Responsible Agency: Office of Federal Activities, General Information 202-564-5632 or https://www.epa.gov/nepa.

Weekly receipt of Environmental Impact Statements (EIS)

Filed December 12, 2022 10 a.m. EST Through December 19, 2022 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20220189, Final, USACE, CA, Thousand Palms Flood Control Project, Review Period Ends: 01/23/2023, Contact: Michael Langley 602-230-6953.

EIS No. 20220190, Final, FERC, VA, Virginia Electrification Project, Review Period Ends: 01/23/2023, Contact: Office of External Affairs 866-208-3372.

EIS No. 20220191, Draft Supplement, USFS, VA, Mountain Valley Pipeline and Equitrans Expansion Project, Comment Period Ends: 02/06/2023, Contact: Joby Timm, Forest Supervisor 888-603-0261.

EIS No. 20220192, Draft, BOEM, MA, New England Wind Project, Comment Period Ends: 02/21/2023, Contact: Jessica Stromberg 703-787-1722.

Amended Notice

EIS No. 20220165, Draft, USFWS, OR, Elliott State Research Forest Habitat Conservation Plan, Comment Period Ends: 01/10/2023, Contact: Shauna Everett 503-231-6949. Revision to FR Notice Published 11/18/2022; Extending the Comment Period from 01/03/2023 to 01/10/2023.

Dated: December 20, 2022.
Cindy S. Barger,
Director, NEPA Compliance Division, Office of Federal Activities.

[FR Doc. 2022-27982 Filed 12-22-22; 8:45 am]

BILLING CODE 6560-50-P